DEPARTMENT OF TRANSPORTATION

Federal Aviation Administration

[Docket No. FAA-2003-16171]

Aircraft Rescue and Fire Fighting (ARFF) Mobile Live Fire Training Simulators

AGENCY: Federal Aviation Administration (FAA), Department of Transportation (DOT).

ACTION: Notice of policy.

SUMMARY: The FAA issues regulations and prescribes standards for the training of aircraft rescue and fire fighters (ARFF) on United States airports certificated under 14 Code of Federal Regulations part 139. One of the requirements of part 139 is for all ARFF personnel to participate in at least one live-fire drill every 12 months. As guidance for airport operators in providing this training, the FAA issued standards for different size fire training facilities based on the largest air carrier aircraft serving the airport. With the introduction of new technologies, ARFF personnel have had the option to train on both mobile as well as fixed training facilities. The FAA published a Notice of Proposed Policy: Request for Comments in the Federal Register on September 18, 2003 at 68 FR 54772, seeking public comment on whether we should allow firefighters at Index C, D, and E airports to meet the § 139.319 requirements using the mobile trainers every year. As a result of the comments received, FAA's policy is being modified to accept mobile simulators for 2 years for Index C, D, and E airports holding a Class I airport operating certificate. Every third year, these airport fire departments will be required to attend a large fixed facility to learn about new technologies and procedures and to gain experience fighting a larger pit fire than the mobile simulators can duplicate. Class I airports that are Index A and B and Class II, III, and IV airports may continue to use the mobile trainer every year to meet the 14 CFR part 139 requirements.

FOR FURTHER INFORMATION CONTACT: Ken Gilliam, Senior Fire Fighting Specialist, Airport Safety and Operations Division, AAS-300, Federal Aviation Administration, 800 Independence Ave. SW., Washington, DC 20591, telephone (407) 812-6331, ext 34.

SUPPLEMENTARY INFORMATION: The 1988 revision of 14 Code of Federal Regulations part 139, Certification and Operations: Land Airports Serving Certain Air Carriers, section 139.319(j)(3) requires “All rescue and fire fighting personnel participate in at least one live fire drill every 12 months.” 52 FR 44276 (Nov. 18, 1997) (effective Jan. 1, 1988). At the time this rule was promulgated, hydrocarbon fuels, such as diesel or jet-A, fueled the training facilities. In the early 1990s, Federal and State environmental protection agencies began banning such facilities because of ground contamination from the fuel. As a result, the FAA assisted in developing Liquid Propane Gas (LPG) fired facilities. The FAA funded these facilities throughout the country. The FAA refers to them as regional training facilities because, mostly, they were intended to serve an area of more than one state. The aim was for a fire fighter to travel to the nearest training facility and receive both classroom and live fire training. FAA's position has been that all ARFF personnel should be exposed to live ground rule fire fighting, either at their home airport or at a regional training facility. The size of the fire at a training facility was to be commensurate with the type of air carrier service that could be expected to serve the airport of the ARFF personnel.

In the mid-1990's, industry, with the assistance of FAA, developed a mobile fire training simulator that could be transported from airport to airport on trucks. The simulations allowed for engine fires, interior fires, wheel well fires, and cargo hold fires. However, one of the drawbacks of the first models of the mobile simulator was that they did not provide for a ground fire. In the late 1990's industry was able to develop a grid system ancillary to the simulator that provided a ground fire of limited size.

The FAA published a Notice of Proposed Policy: Request for Comments in the Federal Register on September 18, 2003, at 54772, seeking public comment on whether we should allow firefighters at Index C, D, and E airports to meet the section 139.319 requirements using the mobile trainers every year. The advantages and disadvantages of using Mobile Aircraft Fire Trainers for annual training by all airports were outlined in the Notice of Proposed Policy. Twenty-six comments were entered on Docket number 16171. Sixteen comments were in favor of using mobile trainers for index C, D, and E airports and ten were against. Two of the sixteen in favor included stipulations.

Commenters in favor (16) provided the following reasons:

1. Flexibility (5)—more training variables available

2. Economic (10)—lower individual student and operational cost

3. Training with local procedures and equipment (10)—students can train on the same equipment they use every day, rather than the equipment maintained at a regional facility

4. Frequency of training (4)—can increase with mobile trainers

5. Cross training with structural and mutual aid companies (7)—local training can include the local government municipal firefighters and emergency services that would back up the airport ARFF department

6. Use with tri-annual exercises (7)

7. FAA inspector use (1)—able to observe

8. Train while maintaining index (1)—crews remain in service on site

9. Mobility (4)

10. Used in search and rescue training (2)

11. Uses modern and high technology (2)

12. Reduces pollution from large pit fires (1)

13. Increases fire fighter proficiency (1)

14. All associated agencies can participate (1)—non fire

15. Train at different locations on the airport (1)

16. Experience in past use is favorable (1)

Commenters opposed (10) provided the following reasons:

1. Size—a mobile trainer does not provide the perception of a large incident (10)

2. Cost should not be a factor—there should not be a price on safety (3)

3. Mobile trainers should not replace fixed facilities (2)

4. Increased use of mobile trainers will have an adverse impact on fixed facilities (4)

5. New Large aircraft coming will further the problems of training (1)—(Although we note that any aircraft in the new large aircraft category would require Index E ARFF capability, and could not operate at the Index A, B, or C airports).

6. Not environmentally friendly because of the water run off (1)

7. Larger facilities are better and provide greater quality (1)

8. Lowers standards (3)

Some specific comments made by various organizations individuals were:

• The American Association of Airport Executives (AAAE) opposed the increased use of the mobile trainer for index C, D, and E stating the FAA should:

1. Stay with the current policy

2. Conduct further study

3. Develop a policy that provides flexibility and also maintains the present policy

• Eight members of AAE and Airports Council International—North America commented, some for and some against the proposal.

• The Air Line Pilots Association opposed the use of mobile trainers, citing the elimination of fixed facilities and the smaller size of the mobile trainers.

• Two international commenters, Transport Canada and Concord Express Limited, opposed the use of the mobile trainer, citing the size of the pool fire and the size of the mock-up as the reason.

• One commenter in favor of the use of mobile trainers each year at all airports made the point that while fighting a large fire is important, it is only a part of ARFF. He goes on the say “The tactics used on a 10,000 gallon ground fuel spill fire and a 5,000 gallon ground spill fire using an ARFF truck are going to be the same. The mandate is that a fire of a certain size be fought; it does not go on to specify how it is to be fought. The tactics will vary by airport, because the equipment will vary. Since the airport decides on the type of equipment it buys, and on the tactics it will use, it should also decide on the best training options available.”

• The FAA received a letter from a tenant fire-fighting department on an airport extolling the virtues of the mobile simulator. According to the letter, the mobile simulator was found to be a helpful and realistic trainer. It went on to say that the simulator allows fire crews to use both hand lines and ARFF truck turrets, and easily simulates interior and exterior aircraft fires.

Recognizing the virtues and shortcomings of both systems and the diversity of opinions in the airport community as well as in the ARFF community, the FAA will adopt this policy for the following reasons: the use of the mobile trainer will allow more flexibility with the fire fighters training on their own equipment at local facilities with local procedures and equipment, allow for greater frequency of training, training with structural and mutual aid companies, provide training of crews without the need to travel and in some cases without crews being out of service, training at different locations on a local airport, provides many variable scenarios placing emphasis on incidents responded to on a daily bases as opposed to the pool fire encountered infrequently, and allows for more frequent training therefore lowering individual student and operational cost. The reduction in pool size is offset in that the mobile trainer provides fire evolutions similar to what is actually being offered by the larger facilities today. Many burn only one fourth the size of the pit due to economic reasons.

In finding that an airport has met the requirement of 14 CFR 139.319(i)(3), the FAA will accept the use of mobile training simulators for 2 years for Class I Index C, D, and E airports. Every third year, these airport fire departments will be required to attend a large fixed facilities as referenced in the Advisory Circular AC150/5220-17A to learn about new technologies and procedures and to gain experience fighting a larger pit fire than the mobile simulators can duplicate. For Class I airports that are Index A and B, and for Class II, III, and IV airports, they may continue to use the mobile trainer every year to meet the 14 CFR part 139 requirements.

Issued in Washington, DC, on November 30, 2004.
David L. Bennet,
Director, Office of Airport Safety and Standards.

[FR Doc. 04-28235 Filed 12-23-04; 8:45 am]

BILLING CODE 4910-13-M